DEPARTMENT OF TRANSPORTATION

Federal Aviation Administration

[Policy Statement No. ANE-2000-33.87-R3]

Policy for 14 CFR 33.87, Endurance Test

AGENCY: Federal Aviation Administration, DOT.

ACTION: Notice of issuance; policy statement.

SUMMARY: The Federal Aviation Administration (FAA) announces the availability of policy for 14 CFR 33.87, Endurance test.

DATES: The FAA issued policy statement number ANE-2000-33.87-R3 on August 24, 2004.

FOR FURTHER INFORMATION CONTACT: Karen Grant, FAA, Engine and Propeller Standards Staff, ANE-110, 12 New England Executive Park, Burlington, MA 01803; e-mail: karen.m.grant@faa.gov; telephone: (781) 238-7119; fax: (781) 238-7199. The policy statement is available on the Internet at the following address: http://www.airweb.faa.gov/rgl. If you do not have access to the Internet, you may request a copy of the policy by contacting the individual listed in this section.

We have filed in the docket all comments we received, as well as a report summarizing each substantive public contact with FAA personnel concerning this policy. The docket is available for public inspection before and after the comment closing date. If you wish to review the docket in person, go to the above address between 9 a.m. and 5 p.m., Monday through Friday, except Federal holidays.

SUPPLEMENTARY INFORMATION: The FAA published a notice in the Federal Register on February 25, 2003 (68 FR 8794) to announce the availability of the proposed policy and invite interested parties to comment.

Background

The FAA was asked to consider a 2-minute gas temperature overshoot limit approval within the 5-minute steady state gas temperature limit associated with the takeoff power or thrust rating established under § 33.7, for certain engine operating conditions. This policy provides additional guidance to establish a uniform approach for Aircraft Certification Offices (ACOs) to evaluate and approve up to a 2-minute gas temperature overshoot limit casued by thermal mismatch of engine hardware. This policy does not create any new requirements.

Authority: 49 U.S.C. 106(g), 40113, 44701-44702, 44704.

Issued in Burlington, Massachusetts, on August 24, 2004.
Robert Guyotte,
Acting Manager, Engine and Propeller Directorate, Aircraft Certification Service.

[FR Doc. 04-20176 Filed 9-2-04; 8:45 am]

BILLING CODE 4910-13-M